FEDERAL COMMUNICATIONS COMMISSION

Notice of Public Information Collection(s) Approved by the Office of Management and Budget

February 22, 2010.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the “For Further Information Contact” section below.

FOR FURTHER INFORMATION CONTACT: Tim Stelzig on (202) 418-0942 or e-mail at Tim.Stelzig@fcc.gov.

SUPPLEMENTARY INFORMATION: OMB Control Number: 3060-1131.

OMB Approval Date: 12/03/2009.

Expiration Date: 12/31/2012.

Title: Implementation of the NET 911 Improvement ACT of 2008: Location Information from Owners and Controllers of 911 and E911 Capabilities.

Form Number: N/A.

Estimated Annual Burden: 60 responses; 0.0833 hours (5 minutes) hours per response; 5 hours total per year.

Obligation to Respond: Required to obtain or retain benefits. Statutory authority for this information collection is contained in the New and Emerging Technologies 911 Improvement Act of 2008 (NET 911 Act), Public Law 110-283, Stat. 2620 (2008) (to be codified at 47 CFR Section 615a-1), and section 222 of the Communications Act of 1934, as amended.

Nature and Extent of Confidentiality: To implement section 222 of the Communications Act of 1934, as amended, the Commission's rules impose a general duty on carriers to protect the privacy of customer proprietary network information and carrier proprietary information from unauthorized disclosure. See 47 CFR 64.2001 et seq. In the Order, the Commission additionally has clarified that the Commission's rules contemplate that incumbent LECs and other owners or controllers of 911 or E911 infrastructure will acquire information regarding interconnected VoIP providers and their customers for use in the provision of emergency services. We fully expect that these entities will use the information only for the provision of E911 services. To be clear, no entity may use customer information obtained as a result of the provision of 911 or E911 services for marketing purposes.

Needs and Uses: In a Report and Order, FCC 08-249, WC Docket No. 08-171, the FCC requires an owner or controller of a 911 or enhanced 911 (E911) capability to make that capability available to a requesting interconnected Voice over Internet Protocol (VoIP) provider in certain circumstances. This requirement involves the collection and disclosure to emergency services personnel of customers' location information. In a previous action, the Commission required interconnected VoIP providers to collect certain location information from their customers and disclose it to the entities that owner or control an Automatic Location Information (ALI) database. That OMB-approved requirement is under OMB Control Number 3060-1085. All the relevant costs of the entities that own or control an ALI database were previously described in 3060-1085. The Commission has calculated the paperwork burdens of this present item in such a way as to prevent double counting for OMB's inventory.

Federal Communications Commission.
Marlene H. Dortch,
Secretary, Office of the Secretary, Office of Managing Director.

[FR Doc. 2010-4068 Filed 2-26-10; 8:45 am]

BILLING CODE: 6712-01-S